DEPARTMENT OF DEFENSE

Office of the Secretary

Military Leadership Diversity Commission

AGENCY: Office of the Under Secretary of Defense for Personnel and Readiness, DoD.

ACTION: Notice of meeting.

SUMMARY: Under the provisions of the Federal Advisory Committee Act of 1972 (5 U.S.C., Appendix, as amended), the Government in the Sunshine Act of 1976 (5 U.S.C. 552b, as amended), and 41 CFR 102-3.150, the Department of Defense announces that the following Federal advisory committee meeting of the Military Leadership Diversity Commission (MLDC) will take place:

DATES: Wednesday, September 16, 2009 through Friday, September 18, 2009.

6 p.m. to 8 p.m., Wednesday, September 16, 2009—Administrative Working Meeting.

9:25 a.m. to 5 p.m., Thursday, September 17, 2009.

8 a.m. to 1 p.m., Friday, September 18, 2009.

ADDRESSES: Wednesday, September 16, 2009—RAND Corporation, Suite 400, 1200 South Hayes St., Arlington, VA 22202-5050.

Thursday and Friday, September 17 through 18, 2009—Double Tree Hotel, 300 Army Navy Drive, Arlington, VA 22202.

FOR FURTHER INFORMATION CONTACT: Colonel James JJ Campbell, 703 571-9324, 703 501-3172, 1851 South Bell Street, Suite 532, Arlington, VA, E-mail james.campbell@osd.mil.

Purpose of the Meeting: The purpose of the meeting is for the commissioners of the Military Leadership Diversity Commission to discuss the congressional requirements of the Commission, and to map the Commission's efforts to address these congressional concerns.

Agenda

Wednesday, September 16, 2009

Administrative Working Meeting (closed to the public)

6 p.m.-8 p.m. Briefings by government officials on federal advisory committee management

Thursday, September 17, 2009

9:25 a.m.-9:30 a.m. Opening of the meeting by the Designated Federal Officer

9:30 a.m.-9:40 a.m. Comments by the Commission Chairman

9:40 a.m.-9:45 a.m. Remarks by Office of Under Secretary of Defense (Personnel and Readiness)

9:45 a.m.-9:55 a.m. (Invited) Remarks by Chairman of the Joint Chiefs of Staff

9:55 a.m.-10:05 a.m. (Invited) Remarks by Congressional Representative

10:05 a.m.-10:10 a.m. Special Assistant to the Secretary for White House Liaison

10:10 a.m.-10:30 a.m. Break

10:30 a.m.-5 p.m. Administrative Working Meeting (closed to the public)— Briefing

10:30 a.m.-10:45 a.m. Chairman briefs to Commissioners (Charter)

10:45 a.m.-11:45 a.m. Open discussion on the objectives and scope of the Commission

12 p.m.-12:50 p.m. Lunch

1 p.m.-4:50 p.m. Discussion of the initial study plan

5 p.m. Closing Remarks by Commission Chairman

Friday, September 18, 2009

8 a.m.-8:05 a.m. Opening of meeting by DFO

8:05 a.m.-8:10 a.m. Remarks by Commission Chairman (Invited) USD (P&R)

8:10 a.m.-8:15 a.m. Remarks by Principal Director, Diversity Management and Equal Opportunity

8:15 a.m.-12:50 p.m. Open discussions—Service Diversity briefings

1 p.m. Closing remarks by Commission Chairman

Public's Accessibility to the Meeting: Pursuant to 5 U.S.C. 552b and 41 CFR 102-3.140 through 102-3.165, and the availability of space, the meetings on Thursday and Friday, September 17 through 18, 2009 will be open to the public. However, pursuant to 41 CFR 3.160(b), both the Administrative Working Meeting on Wednesday, September 16, 2009 and Thursday, September 17, 2009 shall be closed to the public. Please note that the availability of seating is on a first-come basis.

Committee's Designated Federal Officer or Point of Contact: Colonel James JJ Campbell, 703 571-9324, 703 501-3172, 1851 South Bell Street, Suite 532, Arlington, VA, E-mail james.campbell@osd.mil.

Written Statements: Pursuant to 41 CFR 102-3.105(j) and 102-3.140, and section 10(a)(3) of the Federal Advisory Committee Act of 1972, the public or interested organizations may submit written statements to the Military Leadership Diversity Commission about its mission and functions. Written statements may be submitted at any time or in response to the stated agenda of a planned meeting of the Military Leadership Diversity Commission.

All written statements shall be submitted to the Designated Federal Officer for the Military Leadership Diversity Commission, and this individual will ensure that the written statements are provided to the membership for their consideration. Contact information for the Designated Federal Officer can be obtained from the GSA's FACA Database— https://www.fido.gov/facadatabase/public.asp.

Statements being submitted in response to the agenda mentioned in this notice must be received by the Designated Federal Officer at the address listed above at least five calendar days prior the meeting which is the subject of this notice. Written statements received after this date may not be provided to or considered by the Military Leadership Diversity Commission until its next meeting.

The Designated Federal Officer will review all timely submissions with the Military Leadership Diversity Commission Chairperson and ensure they are provided to all members of the Military Leadership Diversity Commission before the meeting that is the subject of this notice.

Dated: August 21, 2009.
Patricia L. Toppings,
OSD Federal Register Liaison Officer, Department of Defense.

[FR Doc. E9-20668 Filed 8-26-09; 8:45 am]

BILLING CODE 5001-06-P